DEPARTMENT OF HEALTH AND HUMAN SERVICES

National Institutes of Health

Center for Scientific Review; Amended Notice of Meeting

Notice is hereby given of a change in the meeting of the Center for Scientific Review Special Emphasis Panel, March 18, 2011, 8 a.m. to March 18, 2011, 6 p.m., The River Inn, 924 25th Street, NW., Washington, DC 20037 which was published in the Federal Register on February 8, 2011, 76 FR 6803-6805.

The meeting will be held April 11, 2011, 8:30 a.m. to 6 p.m. at the Melrose Hotel, 2430 Pennsylvania Avenue, NW. Washington DC 20037. The meeting title has been changed to “ES10-002: Epigenetics and Human Disease II.” The meeting is closed to the public.

Dated: February 22, 2011.
Jennifer S. Spaeth,
Director, Office of Federal Advisory Committee Policy.

[FR Doc. 2011-4362 Filed 2-25-11; 8:45 am]

BILLING CODE 4140-01-P